DEPARTMENT OF THE INTERIOR

Fish and Wildlife Service

[FWS-R1-R-2011-N228;1265-0000-10137-S3]

Keālia Pond National Wildlife Refuge and Kakahai`a National Wildlife Refuge, Maui County, HI; Final Comprehensive Conservation Plans and Findings of No Significant Impact for the Environmental Assessments

AGENCY: Fish and Wildlife Service, Interior.

ACTION: Notice of availability.

SUMMARY: We, the U.S. Fish and Wildlife Service (Service), announce the availability of our final comprehensive conservation plans (CCPs) and findings of no significant impacts for the environmental assessments for the Keālia Pond National Wildlife Refuge (refuge or NWR) and Kakahai`a National Wildlife Refuge. In the final CCPs, we describe how we plan to manage these refuges for the next 15 years.

ADDRESSES: You may view or obtain copies of the final CCPs and findings of no significant impacts (FONSIs) and environmental assessments (EAs) by any of the following methods. You may request a hard copy or CD-ROM.

Agency Web Site: Download the documents at www.fws.gov/pacific/planning.

Email: FW1PlanningComments@fws.gov. Include “Keālia Pond NWR final CCP” or “Kakahai`a NWR final CCP” in the subject line of the message.

Mail: Glynnis Nakai, Project Leader, Maui National Wildlife Refuge Complex, P.O. Box 1042, Kīhei, Hawai`i 96753.

In-Person Viewing or Pickup: Call (808) 875-1582 to make an appointment during regular business hours at Maui NWR Complex, Milepost 6, Mokulele Highway (Hwy. 311), Kīhei, Hawai`i 96753.

FOR FURTHER INFORMATION CONTACT: Glynnis Nakai, Project Leader, Maui NWR Complex, phone number (808) 875-1582.

SUPPLEMENTARY INFORMATION:

Introduction

With this notice, we announce the completion of the CCP processes for Keālia Pond NWR and Kakahai`a NWR. The Service started this process through a notice of intent in the Federal Register on October 20, 2009 (74 FR 53755). We released the draft CCPs/EAs to the public, announcing and requesting comments in a notice of availability in the Federal Register (76 FR 52008; August 19, 2011).

We announce our CCP decisions and the availability of the FONSIs for the EAs in accordance with the National Wildlife Refuge System Administration Act of 1966 (16 U.S.C. 668dd-668ee) (Refuge Administration Act) and National Environmental Policy Act (NEPA) (40 CFR 1506.6(b)) requirements. We prepared a thorough analysis of impacts, which we included in the EAs that accompanied the draft CCPs.

The CCPs will guide us in managing and administering the refuges for the next 15 years. Alternative C, as described in the draft CCPs for each refuge, is the basis for the CCPs.

Background

The Refuge Administration Act, as amended by the National Wildlife Refuge System Improvement Act of 1997, requires us to develop a CCP for each refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public, including opportunities for hunting, fishing, wildlife observation and photography, and environmental education and interpretation. We will review and update the CCP at least every 15 years in accordance with the Refuge Administration Act.

The Keālia Pond and Kakahai`a NWRs are part of the Maui NWR Complex. Keālia Pond Refuge, located along the southern shore of the island of Maui, was established in 1992 for the purpose of providing habitat for endangered Hawaiian waterbirds, specifically the endangered Hawaiian stilt (ae`o) and endangered Hawaiian coot (‘alae ke‘oke‘o). The refuge is administered under a perpetual conservation easement provided by Alexander and Baldwin, Inc., and encompasses open water, marsh, mudflat, upland shrub, and coastal beach strand habitats. The refuge has one of the largest concentrations of wetland birds in Hawai‘i, and is an important breeding, foraging, and resting area for the ae‘o and ‘alae ke‘oke‘o. In addition, Keālia Pond NWR provides a strategic landfall for migratory birds coming from Alaska, Siberia, and Asia, including Northern pintail (koloa māpu), Northern shoveler (koloa mohā), lesser scaup, Pacific golden-plover (kōlea) and ruddy turnstone (‘akekeke). A majority of the refuge is closed to general public access; however, trails, overlooks, and educational programs provide the public with opportunities to view some of Hawai‘i's endangered and migratory wildlife.

Kakahai‘a NWR, located on the southeastern coast of the island of Moloka‘i, was established in 1976 to protect and provide habitat for endangered species. Habitats found on this refuge include freshwater marsh, grassland, dry forest, and coastal strand. The refuge has the potential to provide breeding, foraging, and resting areas for endangered waterbirds, a variety of migratory waterfowl, shorebirds, and other wetland birds. Some of the more common migrants are koloa māpu and kōlea. Kakahai‘a NWR is closed to the general public; however, nongovernmental organizations occasionally conduct wetland education programs.

During the CCP planning process, many elements were considered, including wildlife management and habitat protection, compatible wildlife-dependent recreational opportunities, on- and off-site environmental educational opportunities, and coordination with State and Federal agencies and other interested groups.

The draft CCPs and EAs identified and evaluated three alternatives for managing each refuge. These were available for a 30-day public review and comment period, which included two open house public meetings. The Service incorporated or responded to the comments on the Keālia Pond NWR draft CCP and Kakahai‘a NWR draft CCP in the final CCPs.

Selected Alternative for Each Refuge

All actions in the selected alternative for each refuge are subject to funding and any other compliance requirements. After considering the comments we received, we have selected each refuge's Alternative C for implementation. Implementing Alternative C for the CCPs will encompass the following key actions:

Keālia Pond NWR

The Service will remove the most aggressive invasive plants and control pickleweed on the flats. Planned projects include constructing a water control structure, developing new wells to deliver water to target areas, and recontouring topography to maintain water on the flats. We expect an increased capability to dewater and flood the Main Pond will enhance our dust, midge, and tilapia control efforts. New vegetated blinds will provide better wildlife viewing opportunities, and public interpretation and environmental education programs will be expanded. Internships will be provided for up to five students. Wildlife monitoring on the proposed Molokini Unit will include up to six visits during the period running March through November, and we will initiate a native plant restoration plan.

Kakahai`a NWR

If funded, we will restore the 15-acre Old Pond and 5.5 acres of New Pond by removing California bulrush and other aggressive nonnative species, dredging accumulated sediment, recontouring topography, removing radial levees, reconstructing perimeter levees, replacing the water control structure, and replacing the pump between the two ponds. A well, pump, water distribution line, and control outlet for New Pond will be constructed, and levees will be rebuilt. All monitoring activities will resume as part of the wetland restoration. A predator-proof fence will be installed to protect wetland habitat and species. The coastal strand will be restored and protected from further erosion to provide a protective barrier to the refuge wetlands and highway. A cultural resources survey will be completed for the entire refuge. Opportunities for visitors to engage in compatible wildlife-dependent recreation may expand with new staffing. At a minimum, a kiosk will be constructed along the refuge entrance road and volunteer groups will be developed to assist refuge staff with restoration and maintenance activities.

Dated: November 9, 2011.
Robyn Thorson,
Regional Director, Pacific Region, Portland, Oregon.

[FR Doc. 2012-3648 Filed 2-16-12; 8:45 am]

BILLING CODE 4310-55-P